DEPARTMENT OF HOMELAND SECURITY

Coast Guard

33 CFR Part 100

[Docket Number USCG-2025-0156]

RIN 1625-AA08

Special Local Regulation, East River, Mathews, Virginia

AGENCY: Coast Guard, DHS.

ACTION: Final rule.

SUMMARY: The Coast Guard is establishing a special local regulation for certain waters on the East River in Mathews, VA. This action is necessary to provide for the safety of life on these navigable waters during an annual event, the “Mathews Wharf to Wharf Swim.” This regulation prohibits persons and vessels from entering the regulated area unless authorized by the Captain of the Port, Sector Virginia or a designated representative.

DATES: This rule is effective June 16, 2025.

ADDRESSES: To view documents mentioned in this preamble as being available in the docket, go to https://www.regulations.gov, type USCG-2025-0156 in the search box and click “Search.” Next, in the Document Type column, select “Supporting & Related Material.”

FOR FURTHER INFORMATION CONTACT: If you have questions about this rule, call or email LCDR Justin Strassfield, Sector Virginia, Waterways Management Division, U.S. Coast Guard, Telephone: (571) 608-2969; or virginiawaterways@uscg.mil.

SUPPLEMENTARY INFORMATION:

I. Table of Abbreviations

CFR Code of Federal Regulations

COTP Captain of the Port, Sector Virginia

DHS Department of Homeland Security

FR Federal Register

PATCOM Patrol Commander

§ Section

SLR Special Local Regulation

U.S.C. United States Code

II. Background Information and Regulatory History

On January 2, 2025, the Coast Guard received a request, under 33 CFR 100.15, from the Mathews Outdoor Club, for a Marine Event Permit to host a 1-mile long, open water swim to be held on August 16, 2025, from 10 a.m. until noon, in Mathews, VA. The club has indicated that it plans to host this swim annually thereafter, on the third Saturday of August. The open water swim will include approximately 50 participants and 10 spectator craft.

In response, on April 7, 2025, the Coast Guard published a notice of proposed rulemaking (NPRM) titled Special Local Regulation, East River, Mathews, Virginia (90 FR 14933). There we stated why we issued the NPRM and invited comments on our proposed regulatory action related to this fireworks display. During the comment period that ended May 7, 2025, we received no comments.

III. Legal Authority and Need for Rule

The Coast Guard is issuing this rule under the authority in 46 U.S.C. 70041. The Captain of the Port Sector Virginia (COTP) has determined that potential hazards associated with the open water swim include the possibility that participants swimming within the navigable channel might collide with or otherwise interfere with vessels operating in the channel, as well as the possibility that participants swimming within approaches to local public and private boat facilities might collide with or otherwise interfere with boaters near those facilities. The purpose of this rulemaking is to protect event participants, non-participants, and transiting vessels before, during, and after the scheduled event by promulgating a SLR for the annual event.

IV. Discussion of Comments, Changes, and the Rule

As noted above, we received no comments on our NPRM published April 7, 2025. There are no changes in the regulatory text of this rule from the proposed rule in the NPRM.

This SLR is subject to enforcement annually, from 9 a.m. to 1 p.m. on the third Saturday of August. There is no alternate day planned for this event. Section 100.501 provides, however, that, in the case of inclement weather or other just cause found by the respective COTP, an event may be conducted within 30 days before or after the date(s) identified in the SLR. See 33 CFR 100.501(g).

The regulated area is located on the East River, in the vicinity of Williams Wharf Landing, in Mathews, VA., on a designated, marked course between Hick's Wharf, and it continues across the East River, to the coastline directly across from Williams Wharf. The coordinates of the regulated area are provided in the language of the rule, provided below. The regulated area is approximately 760 yards in length and 700 yards in width. The enforcement period for the rule and the size of the regulated area were chosen to ensure the safety of life on these navigable waters before, during, and after the open water swim scheduled from 10 a.m. to 12 p.m. on the third Saturday of August annually. As provided in 33 CFR 100.501(d)(1), the COTP and Coast Guard Event Patrol Commander (PATCOM) have authority to forbid and control the movement of all vessels and persons, including event participants, in the regulated area. No vessel or person is permitted to enter the regulated area without obtaining permission from the COTP or Event PATCOM. The regulatory text appears at the end of this document.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

This regulatory action determination is based on the size, location, duration and time of day of the regulated area. Vessel traffic on a small portion of the East River will be minimally impacted for 4 hours on a single Saturday annually, and this rule will allow vessel traffic wishing to pass within the regulated area to seek permission to enter the zone. Moreover, the Coast Guard will issue a Broadcast Notice to Mariners via VHF-FM marine channel 16 about the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the regulated area may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule does not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a regulated area on certain waters of the East River that would prohibit entry without permission from the designated PATCOM or COTP. It is categorically excluded from further review under paragraph L61 of Appendix A, Table 1 of DHS Instruction Manual 023-01-001-01, Rev. 01.

List of Subjects in 30 CFR Part 100

Harbors, Marine safety, Navigation (water), Reporting and recordkeeping requirements, Security measures, Waterways.

For the reasons stated in the preamble, the Coast Guard amends 33 CFR 100 as follows:

PART 100—SAFETY OF LIFE ON NAVIGABLE WATERS

1. The authority citation for part 100 continues to read as follows:

Authority: 46 U.S.C. 70041; 33 CFR 1.05-1.

2. In § 100.501, amend Table 3 to paragraph (i)(3), by adding an entry, in alphabetical order, for “Mathews Wharf to Wharf Swim,” to read as follows:

§ 100.501 Special Local Regulations; Marine Events Within the Fifth Coast Guard District.

* * * * *

(i) * * *

(3) * * *

Table 3 to Paragraph (i)(3)
Event | Regulated area | Enforcement ¹ period | Sponsor
* * * * * * *
Mathews Wharf to Wharf Swim | All navigable waters encompassed by the following points, in Mathews, Virginia: beginning at Hick's Wharf at latitude 37°24′34″ N, longitude 076°20′56″ W, thence east across the East River to latitude 37°24′34″ N, longitude 076°20′37″ W, thence south encompassing all shoreline to Williams Wharf at latitude 37°24′13″ N, longitude 076°20″ 49″, thence west back across the East River to latitude 37°24′14″ N, longitude 076°21′08″ W, thence north along the shoreline to the point of origin | Third Saturday in August | Mathews Outdoor Club.
* * * * * * *

Dated: May 8, 2025.
Peggy M. Britton,
Captain, U.S. Coast Guard, Captain of the Port, Sector Virginia.

[FR Doc. 2025-08764 Filed 5-15-25; 8:45 am]

BILLING CODE 9110-04-P